DEPARTMENT OF TRANSPORTATION

Federal Aviation Administration

14 CFR Part 73

[Docket No. FAA-2018-0470; Airspace Docket No. 18-ASW-2]

RIN 2120-AA66

Modification to Restricted Area R-5601F and Establishment of Restricted Area R-5601J; Fort Sill, OK

AGENCY: Federal Aviation Administration (FAA), DOT.

ACTION: Final rule, technical amendment.

SUMMARY: This action amends the restricted areas at Fort Sill, OK, to subdivide R-5601F into two subareas, R-5601F and R-5601J, make a minor correction to one boundary point in R-5601G, and to update and standardize the using agency information for each restricted area in the Fort Sill restricted area complex. The FAA is taking this action to allow for more efficient use of the airspace during periods when military activities only require the eastern portions of the restricted area complex. The airspace modifications are fully contained within the existing lateral and vertical boundaries of the Fort Sill, OK, restricted airspace. The using agency information update to each of the restricted areas in the Fort Sill complex is editorial only.

DATES: Effective date 0901 UTC, September 13, 2018.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends existing restricted area R-5601F by subdividing it into R-5601F and R-5601J, and updates the using agency information for each of the restricted areas at Fort Sill, OK.

History

R-5601F is an irregularly shaped restricted area in the Fort Sill, OK, restricted area complex used to contain hazardous activities. It connects the Military Operations Areas located to the north with the R-5601 gunnery ranges located to the south and stretches the entire length of the Fort Sill restricted area complex laterally from west to east, from 500 feet above ground level (AGL) to Flight Level 400 in altitude. The United States (U.S.) Army normally trains in the eastern restricted areas, R-5601A, R-5601B, and R-5601F, while the U.S. Air Force normally trains in the western areas, R-5601C, R-5601D, R-5601E, R-5601F, and R-5601G. When the using agency only requires the eastern areas to support its hazardous training activities, it results in the R-5601F restricted area being activated across the entire northern boundary of the restricted areas being activated, and creates a 14-mile extension of restricted area airspace that is not needed for the training activities being conducted.

The activation of R-5601F, and the unintended consequences of the 14-mile extension of restricted area airspace extending westward beyond the eastern Fort Sill restricted areas, primarily impacts the high altitude commercial air carriers inbound to the Dallas-Fort Worth metroplex area. Routing aircraft to overfly the R-5601F restricted area results in descent delays that take aircraft off their optimized descent profiles, and vectoring aircraft to circumnavigate the R-5601F restricted area laterally to the west adds miles and flight time to each aircraft. Additionally, these mitigations to overcome the unneeded extension of the R-5601F restricted area when only the eastern Fort Sill restricted areas are required also increases air traffic complexity and controller workload.

In December 2017, the FAA supported a U.S. Army laser air defense exercise conducted at Fort Sill, OK, using existing permanent restricted areas and two temporary restricted areas established overhead the Fort Sill restricted area complex. As part of a lessons learned review of the exercise, the FAA determined that subdividing the existing R-5601F restricted area laterally into two restricted areas, activated independently, would lessen aeronautical impacts to air traffic operating in the central United States.

Further, subdividing the existing R-5601F laterally into two separate restricted areas enhances the efficient use of the National Airspace System by providing for activation of the minimum amount of restricted area airspace needed for hazardous military training activities and releases unneeded restricted areas for access by other airspace users.

Lastly, while staffing this airspace action to subdivide R-5601F laterally, the FAA also determined that one geographic point in the R-5601G boundary information needed to be adjusted and the using agency information needed to be updated in all of the restricted areas in the R-5601 complex. The minor R-5601G boundary point change was deemed necessary to ensure the accuracy of the shared boundaries with the two new subdivided restricted areas and the using agency editorial updates was necessary for clarity and standardization in all of the restricted areas in the R-5601 complex.

The Rule

This action amends 14 CFR part 73 by subdividing restricted area R-5601F in the Fort Sill, OK, restricted area complex into two subareas, R-5601F (amended) and R-5601J (new), divided laterally by a shared boundary extending from lat. 34°45′03″ N, long. 98°29′44″ W to lat. 34°43′30″ N, long. 98°35′40″ W. The subarea portion of the current R-5601F established west of the shared boundary will continue to be designated R-5601F, and the subarea portion established east of the shared boundary will be designated R-5601J. This action does not alter the existing lateral or vertical boundaries of the restricted area airspace or the operations currently conducted in that airspace. The subdivision of the current R-5601F restricted area minimizes impacts to high altitude commercial air carriers inbound to the Dallas-Fort Worth metroplex area unnecessarily when only the eastern R-5601 complex restricted areas are required for training by the using agency at Fort Sill, OK.

This action also makes a minor change to one geographic point in the boundaries information listed in the R-5601G description due to improved digital charting capabilities. This change ensures the accuracy of the shared boundaries between restricted areas R-5601F and R-5601J with R-5601G, and that all three restricted areas meet at the same shared boundary point.

Additionally, this action makes editorial changes to the using agency information listed in each of the Fort Sill restricted area descriptions for clarity and standardization. The using agency is unchanged, but simply amended in the descriptions to reflect the military unit responsible for ensuring the restricted areas are used for their designated purpose, scheduling the restricted areas, and coordinating the restricted area airspace use with the controlling agency. The Fort Sill using agency concurs with this editorial update.

These modifications do not change the current lateral boundaries, designated altitudes, times of designation, or activities conducted within the Fort Sill restricted area complex; therefore, notice and public procedure under 5 U.S.C. 553(b) are unnecessary.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending the internal subdivision of restricted area R-5601F within the Fort Sill, OK, complex qualifies for categorical exclusion under the National Environmental Policy Act and in accordance with FAA Order 1050.1F, Environmental Impacts: Policies and Procedures, paragraph 5-6.5.d, “Modification of the technical description of special use airspace (SUA) that does not alter the dimensions, altitudes, or times of designation of the airspace (such as changes in designation of the controlling or using agency, or correction of typographical errors).” This airspace action is an administrative change to the internal subdivision of an existing restricted area within the Fort Sill, OK, restricted area complex. It does not alter the dimensions, altitudes, time of designation, or use of the airspace. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment or an environmental impact study.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.56 [Amended]

2. § 73.56 is amended as follows:

R-5601A Fort Sill, OK [Amended]

* * * * *

By removing “Using agency. U.S. Army, Commanding General, U.S. Army Fires Center of Excellence (USAFCOE) and Fort Sill, Fort Sill, OK,” and adding in its place:

Using agency. U.S. Army, U.S. Army Fires Center of Excellence (USAFCOE), Fort Sill, OK.

R-5601B Fort Sill, OK [Amended]

* * * * *

By removing “Using agency. U.S. Army, Commanding General, U.S. Army Fires Center of Excellence (USAFCOE) and Fort Sill, Fort Sill, OK,” and adding in its place:

Using agency. U.S. Army, U.S. Army Fires Center of Excellence (USAFCOE), Fort Sill, OK.

R-5601C Fort Sill, OK [Amended]

* * * * *

By removing “Using agency. U.S. Army, Commanding General, U.S. Army Fires Center of Excellence (USAFCOE) and Fort Sill, Fort Sill, OK,” and adding in its place:

Using agency. U.S. Army, U.S. Army Fires Center of Excellence (USAFCOE), Fort Sill, OK.

R-5601D Fort Sill, OK [Amended]

* * * * *

By removing “Using agency. U.S. Army, Commanding General, U.S. Army Fires Center of Excellence (USAFCOE) and Fort Sill, Fort Sill, OK,” and adding in its place:

Using agency. U.S. Army, U.S. Army Fires Center of Excellence (USAFCOE), Fort Sill, OK.

R-5601E Fort Sill, OK [Amended]

* * * * *

By removing “Using agency. U.S. Army, Commanding General, U.S. Army Fires Center of Excellence (USAFCOE) and Fort Sill, Fort Sill, OK,” and adding in its place:

Using agency. U.S. Army, U.S. Army Fires Center of Excellence (USAFCOE), Fort Sill, OK.

R-5601F Fort Sill, OK [Amended]

Boundaries. Beginning at lat. 34°46′24″ N, long. 98°52′00″ W; thence clockwise via the 49 NM arc of the Wichita Falls VORTAC to lat. 34°46′39″ N, long. 98°50′53″ W; to lat. 34°43′46″ N, long. 98°49′55″ W; thence clockwise via the 46 NM arc of the Wichita Falls VORTAC to lat. 34°45′03″ N, long. 98°29′44″ W; to lat. 34°43′30″ N, long. 98°35′40″ W; to lat. 34°45′00″ N, long. 98°40′31″ W; to lat. 34°42′15″ N, long. 98°50′01″ W; to the point of beginning. Excluding that airspace below 5,500 feet MSL beginning at lat. 34°44′28″ N, long. 98°46′16″ W; thence clockwise via the 46 NM arc of the Wichita Falls VORTAC to lat. 34°45′03″ N, long. 98°29′44″ W; to lat. 34°43′30″ N, long. 98°35′40″ W; to lat. 34°45′00″ N, long. 98°40′31″ W; to lat. 34°43′09″ N, long. 98°46′56″ W; to the point of beginning.

Designated altitudes. 500 feet AGL to FL 400. Times of designation. Sunrise to 2200 local time, Monday-Friday; other times by NOTAM. Controlling agency. FAA, Fort Worth ARTCC. Using agency. U.S. Army, U.S. Army Fires Center of Excellence (USAFCOE), Fort Sill, OK.

R-5601G Fort Sill, OK [Amended]

* * * * *

By removing the boundary geographic point “lat. 34°45′03″ N, long. 98°29′46″ W” and adding in its place “lat. 34°45′03″ N, long. 98°29′44″ W.”

By removing “Using agency. U.S. Army, Commanding General, U.S. Army Fires Center of Excellence (USAFCOE) and Fort Sill, Fort Sill, OK,” and adding in its place:

Using agency. U.S. Army, U.S. Army Fires Center of Excellence (USAFCOE), Fort Sill, OK.

R-5601H Fort Sill, OK [Amended]

* * * * *

By removing “Using agency. U.S. Army, Commanding General, U.S. Army Fires Center of Excellence (USAFCOE) and Fort Sill, Fort Sill, OK,” and adding in its place:

Using agency. U.S. Army, U.S. Army Fires Center of Excellence (USAFCOE), Fort Sill, OK.

R-5601J Fort Sill, OK [New]

Boundaries. Beginning at lat. 34°45′03″ N, long. 98°29′44″ W; to lat. 34°46′15″ N, long. 98°25′01″ W; to lat. 34°47′00″ N, long. 98°17′46″ W; to lat. 34°46′45″ N, long. 98°17′01″ W; to lat. 34°46′06″ N, long. 98°17′01″ W; to lat. 34°46′06″ N, long. 98°21′01″ W; to lat. 34°43′45″ N, long. 98°21′01″ W; to lat. 34°43′30″ N, long. 98°21′21″ W; to lat. 34°43′30″ N, long. 98°35′40″ W; to the point of beginning. Excluding that airspace below 5,500 feet MSL beginning at lat. 34°43′30″ N, long. 98°35′40″ W; to lat. 34°44′48″ N, long. 98°30′45″ W; to lat. 34°43′30″ N, long. 98°30′00″ W; to the point of beginning; and that airspace below 3,500 feet MSL within a 1 NM radius of lat. 34°46′46″ N, long. 98°17′46″ W.

Designated altitudes. 500 feet AGL to FL 400. Times of designation. Sunrise to 2200 local time, Monday-Friday; other times by NOTAM. Controlling agency. FAA, Fort Worth ARTCC. Using agency. U.S. Army, U.S. Army Fires Center of Excellence (USAFCOE), Fort Sill, OK.

Issued in Washington, DC, on June 13, 2018.
Scott J. Gardner,
Acting Manager, Airspace Policy Group.

[FR Doc. 2018-13375 Filed 6-21-18; 8:45 am]

BILLING CODE 4910-13-P